DEPARTMENT OF AGRICULTURE

Food and Nutrition Service

Agency Information Collection Activities; Proposals, Submissions, and Approvals: Child Nutrition Program Operations Study-II (CN-OPS-II)

AGENCY: Food and Nutrition Service (FNS), United States Department of Agriculture (USDA).

ACTION: Notice.

SUMMARY: In accordance with the Paperwork Reduction Act of 1995, this notice invites the general public and other public agencies to comment on this proposed information collection. This collection is a revision of the currently approved collection for the Child Nutrition Program Operations Study-II (CN-OPS II) [OMB Control Number 0584-0607]. The purpose of the revision is to update the survey instruments for school year (SY) 2018-19 to include topics of current interest and collect timely data to inform Child Nutrition Programs (CNP) operations.

DATES: Written comments on this notice must be received on or before August 13, 2018.

ADDRESSES: Comments may be sent to: Holly Figueroa, Social Science Research Analyst, Special Nutrition Evaluation Branch, Office of Policy Support, Food and Nutrition Service, USDA, 3101 Park Center Drive, Room 1014, Alexandria, VA 22302. Comments may also be submitted via fax to the attention of Holly Figueroa at 703-305-2576 or via email to holly.figueroa@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on the proposed project or to obtain a copy of the data collection plans, contact Holly Figueroa, Social Science Research Analyst, Special Nutrition Evaluation Branch, Office of Policy Support, Food and Nutrition Service, USDA, 3101 Park Center Drive, Room 1014, Alexandria, VA 22302; Fax: 703-305-2576; Email: holly.figueroa@fns.usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Child Nutrition Program Operations Study-II (CN-OPS-II).

Form Number: N/A.

OMB Number: 0584-0607.

Expiration Date of Approval: 07/31/2020.

Type of Information Collection Request: Revision of a currently approved collection.

Abstract: The objective of the Child Nutrition Program Operations Study-II (CN-OPS-II) is to collect timely data on policies, administrative, and operational issues on the Child Nutrition Programs. The ultimate goal is to analyze these data and to provide input for new legislation on Child Nutrition Programs as well as to provide pertinent technical assistance and training to program implementation staff.

The CN-OPS-II will help the Food and Nutrition Service (FNS) better understand and address current policy issues related to Child Nutrition Programs (CNP) operations. The policy and operational issues include, but are not limited to, the preparation of the program budget, development and implementation of program policy and regulations, and identification of areas for technical assistance and training. Specifically, this study will help FNS obtain:

General descriptive data on the Child Nutrition (CN) program characteristics to help FNS respond to questions about the nutrition programs in schools;

Data related to program administration for designing and revising program regulations, managing resources, and reporting requirements; and

Data related to program operations to help FNS develop and provide training and technical assistance for School Food Authorities (SFAs) and State Agencies responsible for administering the CN programs.

The activities to be undertaken subject to this notice include:

Conducting a web survey of approximately 1,750 SFA Directors.

Conducting a web survey of all 55 State Agency CN Directors.

Affected Public: State, Local and Tribal Governments (SFA Directors for public schools and State CN Directors).

Estimated Number of Respondents: The total estimated number of respondents is 3,379 (1,814 respondents and 1,565 non-respondents). Three State CN Directors and six SFA Directors are expected to participate in the pre-test. The estimated number of respondents for each of the web surveys is as follows:

(1) State CN Director Web Survey: The sample for this collection includes all 55 State CN Directors (50 U.S. States, 4 U.S. Territories, and the District of Columbia), all of whom are expected to respond.

(2) SFA Director Web Survey: The sample for this collection includes 2,188 SFA Directors selected, using a stratified probability proportional-to-size (PPS) design, from the universe of SFAs operating in public school districts in the U.S. and outlying Territories that are required to submit the FNS-742 Verification Collection Report Summary form. Of the full sample, 1,750 SFA Directors are expected to respond for a response rate of 80 percent.

Estimated Frequency of Response per Respondent: SFA Director and State CN Director respondents will be asked to complete their respective web surveys one time. Each State CN Director may receive up to four follow-up/reminder emails and up to two reminder phone calls until the target of 55 respondents is reached. Each SFA Director may receive up to four follow-up/reminder emails and up to three reminder phone calls until the target number of 1,750 respondents is reached. FNS estimates that respondents will average 3.02 responses (5,479 responses/1,814 respondents) across the entire collection, with non-respondents averaging 4.38 responses (6,860 responses/1,565 non-respondents). Across all participants in the collection (respondents and non-respondents) the average number of responses is 3.65.

Estimated Total Annual Responses: The estimated total number of annual responses is 12,339. This includes 5,479 for all respondents and 6,860 for non-respondents.

Estimated Time per Response: The estimated time per response ranges from 2 minutes (0.03 hours) to 3 hours depending on the instrument. The average estimated time for all participants (respondents and non-respondents) in this collection is 20 minutes (0.33 hours) per response.

Estimated Total Annual Burden on Respondents: The annual reporting burden is estimated at 4,101.87 hours. See Table 1 for estimated total annual burden per respondent type.

Dated: May 31, 2018.
Brandon Lipps,
Administrator, Food and Nutrition Service.

BILLING CODE 3410-30-P

[FR Doc. 2018-12650 Filed 6-12-18; 8:45 am]

BILLING CODE 3410-30-C